DEPARTMENT OF TRANSPORTATION

Federal Aviation Administration

14 CFR Part 39

[Docket No. 2000-NM-311-AD]

RIN 2120-AA64

Airworthiness Directives; Bombardier Model CL-600-2B19 (Regional Jet Series 100) Series Airplanes

AGENCY: Federal Aviation Administration, DOT.

ACTION: Notice of proposed rulemaking (NPRM).

SUMMARY: This document proposes the supersedure of an existing airworthiness directive (AD), applicable to certain Bombardier Model CL-600-2B19 (Regional Jet series 100) series airplanes, that currently requires repetitive lubrication with grease of the sliding shaft of the input plunger of the brake control valve assembly. This action would add requirements for modifying the brake control valve assembly, and subsequent repetitive lubrications of the valve. Accomplishment of the modification would terminate the repetitive lubrications of the sliding shaft of the input plunger required by the existing AD. This proposal is prompted by reports of temporary loss of braking action upon landing. The actions specified by the proposed AD are intended to prevent temporary loss of braking action due to the freezing of moisture of the input plunger of the brake control valve during steep descent.

DATES: Comments must be received by February 12, 2003.

ADDRESSES: Submit comments in triplicate to the Federal Aviation Administration (FAA), Transport Airplane Directorate, ANM-114, Attention: Rules Docket No. 2000NM-311-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-311-AD” in the subject line and need not be submitted in triplicate. Comments sent via the Internet as attached electronic files must be formatted in Microsoft Word 97 for Windows or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Dan Parrillo, Aerospace Engineer, Systems and Flight Test Branch, ANE-172, FAA, New York Aircraft Certification Office, 10 Fifth Street, Third Floor, Valley Stream, New York 11581; telephone (516) 256-7505; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-311-AD.” The postcard will be date stamped and returned to the commenter.

Availability of NPRMs

Any person may obtain a copy of this NPRM by submitting a request to the FAA, Transport Airplane Directorate, ANM-114, Attention: Rules Docket No. 2000-NM-311-AD, 1601 Lind Avenue, SW., Renton, Washington 98055-4056.

Discussion

On January 12, 1994, the FAA issued AD 93-21-04, amendment 39-8801 (59 FR 2952, January 20, 1994), applicable to certain Bombardier Model CL-600-2B19 (Regional Jet series 100) series airplanes, to require repetitive lubrication with grease of the sliding shaft of the input plunger of the brake control valve assembly. That action was prompted by reports of temporary loss of braking action upon landing. The requirements of that AD are intended to prevent temporary loss of braking action due to the freezing of moisture on the input plunger of the brake control valve during steep descent.

Action Since Issuance of Previous Rule

Since the issuance of that AD, Transport Canada Civil Aviation (TCCA), which is the airworthiness authority for Canada, issued Canadian airworthiness directive CF-93-26R2, dated January 18, 1994, in order to assure the continued airworthiness of these airplanes in Canada. The Canadian airworthiness directive requires, among other things, modifying the brake control valve assembly by installing new greasing provisions, and subsequent repetitive lubrications of the valve using the newly installed grease fittings.

Bombardier has issued Service Bulletin S.B. 601R-32-017, dated November 9, 1993. The service bulletin describes procedures for modification of the brake control valve assembly, and subsequent repetitive lubrications of the valve. Accomplishment of the modification eliminates the need for the existing repetitive lubrications of the sliding shaft of the input plunger required by AD 93-21-04. The modification includes installing a new crossbeam assembly into the dual-brake control valve, torquing bolts, and inspecting for leaks. The new crossbeam assembly incorporates a lubrication fitting to allow lubrication of the brake control valve plungers. Accomplishment of the actions specified in the service bulletin is intended to adequately address the identified unsafe condition. TCCA classified this service bulletin as mandatory in order to assure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would supersede AD 93-21-04 to continue to require lubrication with grease of the sliding shaft of the input plunger of the brake control valve assembly. The proposed AD would add requirements for modifying the brake control valve assembly; and subsequent repetitive lubrications of the valve. Accomplishment of the modification would terminate the repetitive lubrications of the sliding shaft of the input plunger. The new actions would be required to be accomplished in accordance with the service bulletin described previously.

Differences Between Proposed Rule and Canadian Airworthiness Directive

The proposed AD would differ from the parallel Canadian airworthiness directive in that it would NOT require the following actions:

• Revising the Airplane Flight Manual to provide the flightcrew with operational procedures for abnormal brake-pedal action; and

• Cleaning and drying the bushings and plungers, and applying lubricant to these components.

We have determined that these actions are unnecessary because those actions are intended to mitigate the identified unsafe condition before accomplishment of Bombardier Service Bulletin 601R-32-017. The modification of the brake control valve assembly and subsequent lubrication schedule specified in that service bulletin render the preceding actions unnecessary. TCCA has no objections to our proposed requirements.

Cost Impact

There are approximately 2 Model CL-600-2B19 (Regional Jet series 100) series airplanes of U.S. registry that are affected by AD 93-21-04. The actions that are currently required by that AD take approximately 1 work hour per airplane to accomplish, at an average labor rate of $60 per work hour. Based on these figures, the cost impact of the currently required actions on U.S. operators is estimated to be $120, or $60 per airplane.

There are approximately 194 Model CL-600-2B19 series airplanes of U.S. registry that would be affected by this proposed AD.

The modification that is proposed in this AD action would take approximately 4 work hours per airplane to accomplish, at an average labor rate of $60 per work hour. Required parts would cost approximately $3,812 per airplane. Based on these figures, the cost impact of the proposed modification of this AD on U.S. operators is estimated to be $786,088, or $4,052 per airplane.

The lubrication of the brake control valve that is proposed in this AD action would take approximately 1 work hour per airplane to accomplish, at an average labor rate of $60 per work hour. Based on these figures, the cost impact of this proposed lubrication of this AD on U.S. operators is estimated to be $11,640, or $60 per airplane, per lubrication.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8801 (59 FR 2952, January 20, 1994), and by adding a new airworthiness directive (AD), to read as follows:

Bombardier, Inc. (Formerly Canadair): Docket 2000-NM-311-AD. Supersedes AD 93-21-04, Amendment 39-8801.

Applicability: Model CL-600-2B19 (Regional Jet series 100) series airplanes, serial numbers 7003 and subsequent, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent temporary loss of braking action due to the freezing of moisture on the input plunger of the brake control valve during steep descent, accomplish the following:

Requirements of AD 93-21-04

Lubrications

(a) Within 3 days after February 4, 1994 (the effective date of AD 93-21-04, amendment 39-8801), and thereafter at intervals not to exceed 3 days, lubricate with grease the sliding shaft of the input plunger of the brake control valve assembly per Canadair Regional Jet Alert Service Bulletin S.B.A601R-32-016, dated October 14, 1993, until modification of the brake control valve, as required by paragraph (b) of this AD, is accomplished.

New Actions Required By This AD

Modification

(b) Within 12 months after the effective date of this AD: Modify the brake control valve assembly by accomplishing all the actions specified in Bombardier Service Bulletin S.B. 601R-32-017, dated November 9, 1993, per the service bulletin. Such modification terminates the repetitive lubrications of the sliding shaft of the input plunger of the brake control valve assembly required by paragraph (a) of this AD.

Repetitive Lubrications

(c) Within 1,500 flight hours after doing the modification required by paragraph (b) of this AD, and thereafter at intervals of 1,500 flight hours, lubricate with grease the brake control valve per paragraph 2.B.(18) of the Accomplishment Instructions of Bombardier Service Bulletin S.B. 601R-32-017, dated November 9, 1993.

Alternative Methods of Compliance

(d)(1) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

(2) Alternative methods of compliance, approved previously in accordance with AD 93-21-04, amendment 39-8801, are approved as alternative methods of compliance with this AD.

Special Flight Permits

(e) Special flight permits may be issued in accordance with sections 21.197 and 21.199 of the Federal Aviation Regulations (14 CFR 21.197 and 21.199) to operate the airplane to a location where the requirements of this AD can be accomplished.

Note 2: The subject of this AD is addressed in Canadian airworthiness directive CF-93-26R2, dated January 18, 1994.

Issued in Renton, Washington, on January 7, 2003.
Vi L. Lipski,
Manager, Transport Airplane Directorate, Aircraft Certification Service.

[FR Doc. 03-642 Filed 1-10-03; 8:45 am]

BILLING CODE 4910-13-P